DEPARTMENT OF TRANSPORTATION

Federal Railroad Administration

[Docket Number FRA-2020-0033]

Petition for Modification of Waiver of Compliance

Under part 211 of title 49 Code of Federal Regulations (CFR), this document provides the public notice that on March 15, 2023, BNSF Railway Company (BNSF) petitioned the Federal Railroad Administration (FRA) for an amendment of a waiver of compliance from certain provisions of the Federal railroad safety regulations contained at 49 CFR part 215 (Railroad Freight Car Safety Standards) and part 232 (Brake System Safety Standards for Freight and Other Non-Passenger Trains and Equipment; End-of-Train Devices). The relevant Docket Number is FRA-2020-0033.

Specifically, BNSF requests to modify and clarify two of the conditions (conditions 2 and 12) on the relief granted by FRA's letter dated September 11, 2020.¹ BNSF proposes to modify condition 2 by providing an additional report to FRA “on the prior week[']s list of actual trains that were operated under the waiver.” BNSF states that this additional report would “provide better clarity for both FRA and Labor as they look to audit BNSF processes against this waiver.” BNSF seeks to amend condition 12 by changing the phrase “originating terminal” to “the combination location,” specifying that until trains are combined, they are “only potential waiver candidates.” In support of its request, BNSF states that the modifications would support “transparencey (sic) in the waiver process and continuous improvement” and “remove any ambiguity or lack of process understanding.”

¹ https://www.regulations.gov/document/FRA-2020-0033-0005.

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

All communications concerning these proceedings should identify the appropriate docket number and may be submitted at http://www.regulations.gov. Follow the online instructions for submitting comments.

Communications received by June 20, 2023 will be considered by FRA before final action is taken. Comments received after that date will be considered if practicable.

Anyone can search the electronic form of any written communications and comments received into any of our dockets by the name of the individual submitting the comment (or signing the document, if submitted on behalf of an association, business, labor union, etc.). Under 5 U.S.C. 553(c), the U.S. Department of Transportation (DOT) solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2023-08497 Filed 4-20-23; 8:45 am]

BILLING CODE 4910-06-P